DEPARTMENT OF HEALTH AND HUMAN SERVICES

Centers for Disease Control and Prevention

The National Institute for Occupational Safety and Health (NIOSH) of the Centers for Disease Control and Prevention (CDC) Announces an Evaluation of Downdraft Vented Nail Salon Tables (VNTs)

Authority: 29 U.S.C. Sections 651 et seq.

AGENCY: National Institute for Occupational Safety and Health (NIOSH) of the Centers for Disease Control and Prevention (CDC), Department of Health and Human Services (HHS).

ACTION: Notice.

SUMMARY: The Division of Applied Research and Technology (DART), NIOSH, is conducting an evaluation of downdraft vented salon nail tables (VNTs). This notice invites developers, manufacturers, and vendors of VNTs to submit new, unused, downdraft VNTs for evaluation of operational characteristics and effectiveness in reducing levels of a source point tracer gas at standard distances from the vent. A 6-month supply of manufacturer recommended filters is to be submitted to NIOSH at the address below, together with the VNT.

Evaluation parameters for the VNTs will include, but are not limited to: Airflow and capture characteristics, noise level, ergonomic features, and filter life. Manufacturers, vendors, and developers who wish to submit VNTs with filters for evaluation are invited to respond to this announcement. A report on each VNT submitted for evaluation, including feedback on the evaluation parameters and staff recommendations, will be sent to the submitter. Results of the evaluation will potentially be used to develop educational materials for nail technicians and may also be disseminated through reports, publications, or presentations. NIOSH does not intend to identify manufacturers in its publications but testing information referencing particular manufacturers would be releasable if requested under the Freedom of Information Act (FOIA).

DATES: Written letter of interest must be received within 90 calendar days of publication in the Federal Register. The deadline for receipt of VNT and filter submissions is June 30, 2009. Evaluations will begin subject to the dates VNT and filter submissions are received. The VNTs will be retained for up to 10 months while being evaluated, after which they will be returned.

ADDRESSES: Manufacturers, vendors, and developers who wish to submit VNTs with filters for evaluation are invited to respond to this announcement by sending a written letter of interest to NIOSH/DART, Robert A. Taft Laboratories, 4676 Columbia Parkway, Mailstop C-23, Cincinnati, Ohio 45226, Attention: Susan Reutman, e-mail address: SReutman@cdc.gov.

SUPPLEMENTARY INFORMATION: Responses shall include: A description of the VNT including the manufacturer, schedule of availability of the VNT and filters for evaluation, and a statement of the terms under which the VNT will be made available for evaluation. Shipping and handling costs (including insurance) to ship the VNTs to NIOSH and for NIOSH to return the VNTs to the submitter will be the responsibility of the submitter. NIOSH reserves the right to decide which VNT submissions will be evaluated based on compliance with the specifications described above. NIOSH also reserves the right not to proceed in this manner.

Note: As a government entity, we cannot endorse any specific product directly, indirectly, or by implication. NIOSH will not be responsible for any costs related to usage, wear and tear or accidental damage to the VNT during transport or while the VNT is at NIOSH.

Contact Person for Technical Information: Susan Reutman, Ph.D., telephone (513) 533-8286, or e-mail SReutman@cdc.gov.

Dated: January 2, 2009.
James D. Seligman,
Chief Information Officer, Centers for Disease Control and Prevention.

[FR Doc. E9-1193 Filed 1-21-09; 8:45 am]

BILLING CODE 4163-19-P